DEPARTMENT OF DEFENSE

Office of the Secretary

[Docket ID: DoD-2009-OS-0191]

Proposed Collection; Comment Request

AGENCY: Office of the Secretary, DoD.

ACTION: Notice.

SUMMARY: In compliance with section 3506(c)(2)(A) of the Paperwork Reduction Act of 1995, the Pentagon Force Protection Agency announces the proposed extension of a public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or forms of information technology.

DATES: Consideration will be given to all comments received by March 1, 2010.

ADDRESSES: You may submit comments, identified by docket number and title, by any of the following methods:

Federal eRulemaking Portal: http://www.regulations.gov. Follow the instructions for submitting comments.

Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instrument, please write to Pentagon Force Protection Agency, ATTN: Ms. Lillian Dockery, Room 1F1084, 9000 Defense Pentagon, Washington, DC 20301-9000, or call the Pentagon Access Control Division at (703) 697-9327.

Title; Associated Form; and OMB Number: DoD Building Pass Application; DD Form 2249; OMB Number 0704-0328.

Needs and Uses: The information collection requirement is used by officials of Security Services, Pentagon Force Protection Agency, to maintain a listing of personnel who are authorized a DoD Building Pass.

Affected Public: Individuals or households; businesses or other for-profit.

Annual Burden Hours: 12,000.

Number of Respondents: 120,000.

Responses per Respondent: 1.

Average Burden for Response: 6 minutes.

Frequency: On occasion.

SUPPLEMENTARY INFORMATION:

Summary of Information Collection

This requirement provides for the collection of information from applicants for DoD Building Passes. The information collected from the DD Form 2249, “DoD Building Pass Application,” is used to verify the need for and to issue a DoD Building Pass to DoD personnel, other authorized U.S. Government personnel, and DoD consultants and experts who regularly work in or require frequent and continuing access to DoD-owned or occupied buildings in the National Capital Region.

Dated: December 28, 2009.
Mitchell S. Bryman,
Alternate OSD Federal Register Liaison Officer, Department of Defense.

[FR Doc. E9-31046 Filed 12-30-09; 8:45 am]

BILLING CODE 5001-06-P